CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed new information collection through the Partnership and Collaboration (PAC) Survey that is part of the Social Network Study (SNS). The goal of this study is to gather a comprehensive understanding of network of organizations in the same service area as CNCS grantees, the relationships and interactions of CNCS grantees with these other organizations, and how central the AmeriCorps members and member organizations are to these networks. In support of these efforts, we will design and field a survey of grantees and organizations in the service area in several sites, the data from which will be the foundation for social network analysis. CNCS will analyze the resulting data, which will produce quantitative mapping of networks and measure the networks' formal properties—notably the strength, intensity, frequency, and direction of the network relations. Participation in data collection efforts is not required to be considered to obtain support from CNCS.

Copies of the information collection request can be obtained by contacting the office listed in the ADDRESSES section of this Notice.

DATES: Written comments must be submitted to the individual and office listed in the ADDRESSES section by January 30, 2015.

ADDRESSES: You may submit comments, identified by the title of the information collection activity, by any of the following methods:

(1) By mail sent to: Corporation for National and Community Service, Office of Research and Evaluation; Attention Anthony Nerino, Research Associate, Rm. #10913A; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Anthony Nerino, (202-606-3913), or by email at anerino@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

While previous evaluation efforts have confirmed CNCS's impact on members and recipients of services such as increased education, skills, and civic participation, the Social Network Study (SNS) will be a feasibility study of a tool designed to evaluate the collaboration and partnerships between ACSN grantees and organizations within their geographic communities. The main goal of SNS is to gather through the Partnership and Collaboration (PAC) Survey an in-depth understanding of how ACSN grantees engage organizational communities through partnerships and to learn more about their relationships and interactions with other organizations within their network. The PAC will also provide information about both the barriers that prevent collaboration and interaction, and facilitators that could be utilized to overcome them. These outcomes are an important step to developing a more vigorous civic infrastructure and increasing capacity in the communities served by CNCS and its grantees. This study will also help CNCS disseminate best practices about collaboration and partnerships to other AmeriCorps programs. Information will be collected electronically via Web primarily and telephone and mail in options will be provided only to those not responsive to the Web survey.

Current Action

This is a new information collection request.

Type of Review: New.

Agency: Corporation for National and Community Service.

Title: AmeriCorps State and National Partnership and Collaboration (PAC) Survey.

OMB Number: None.

Agency Number: None.

Affected Public: AmeriCorps grantees and their community partners.

Total Respondents: 250.

Frequency: Once.

Average Time per Response: 30 minutes.

Estimated Total Burden Hours: 125.

Total Burden Cost (capital/startup): None.

Total Burden Cost (operating/maintenance): None.

Comments submitted in response to this notice will be summarized and/or included in the request for Office of Management and Budget approval of the information collection request; they will also become a matter of public record.

Dated: November 24, 2014.
Mary Hyde,
Deputy Director, Office of Research and Evaluation.

[FR Doc. 2014-28177 Filed 11-28-14; 8:45 am]

BILLING CODE 6050-28-P